DEPARTMENT OF ENERGY

Orders Granting Authority to Import and Export Natural Gas, and to Import and Export Liquefied Natural Gas During January 2014

| FE Docket Nos.
ENCANA NATURAL GAS INC. | 13-152-LNG
FREEPORT LNG DEVELOPMENT, L.P. | 13-148-LNG
COLONIAL ENERGY, INC. | 13-156-NG
BROOKFIELD ENERGY MARKETING LP | 13-159-NG
ENERGY SOURCE CANADA INC. | 14-01-NG
COKINOS ENERGY CORPORATION | 14-03-NG
SABINE PASS LIQUEFACTION, LLC | 13-121-LNG
GLOBAL PURE ENERGY, LLC | 13-158-NG
APPLIED TECHNOLOGIES, LLC | 14-02-LNG
RAINBOW ENERGY MARKETING CORPORATION | 14-07-NG
WHITE EAGLE TRADING, LLC | 14-10-NG

AGENCY: Office of Fossil Energy, Department of Energy.

ACTION: Notice of orders.

SUMMARY: The Office of Fossil Energy (FE) of the Department of Energy gives notice that during January 2014, it issued orders granting authority to import and export natural gas, and to import and export liquefied natural gas (LNG). These orders are summarized in the attached appendix and may be found on the FE Web site at http://www.fossil.energy.gov/programs/gasregulation/authorizations/Orders-2014.html. They are also available for inspection and copying in the Office of Fossil Energy, Office of Oil and Gas Global Security and Supply, Docket Room 3E-033, Forrestal Building, 1000 Independence Avenue SW., Washington, DC 20585, (202) 586-9478. The Docket Room is open between the hours of 8:00 a.m. and 4:30 p.m., Monday through Friday, except Federal holidays.

Issued in Washington, DC, on October 27, 2014.
John A. Anderson,
Director, Division of Natural Gas Regulatory Activities, Office of Oil and Gas Global Security and Supply, Office of Oil and Natural Gas.

Appendix

DOE/FE Orders Granting Import/Export Authorizations
3378 | 01/30/14 | 13-152-LNG | Encana Natural Gas Inc. | Order granting blanket authority to import/export LNG from/to Canada/Mexico by truck, rail, barge, and non-barge waterborne vessels.
3379 | 01/09/14 | 13-148-LNG | Freeport LNG Development, L.P. | Order granting blanket authority to import LNG from various international sources by vessel.
3380 | 01/16/14 | 13-156-NG | Colonial Energy, Inc. | Order granting blanket authority to import/export natural gas from/to Canada/Mexico.
3381 | 01/16/14 | 13-159-NG | Brookfield Energy Marketing LP | Order granting blanket authority to import/export natural gas from/to Canada.
3382 | 01/16/14 | 14-01-NG | Energy Source Canada Inc. | Order granting blanket authority to import/export natural gas from/to Canada.
3383 | 01/22/14 | 14-03-NG | Cokinos Energy Corporation | Order granting blanket authority to export natural gas to Mexico.
3384 | 01/22/14 | 13-121-LNG | Sabine Pass Liquefaction, LLC | Order granting long-term, multi-contract authority to export LNG by vessel from the Sabine Pass LNG Terminal to Free Trade Agreement Nations.
3385 | 01/30/14 | 13-158-NG | Global Pure Energy, LLC | Order granting blanket authority to import/export natural gas from/to Canada.
3386 | 01/30/14 | 14-02-LNG | Applied Technologies, LLC | Order granting blanket authority to import/export LNG from/to Canada/Mexico by truck.
3387 | 01/30/14 | 14-07-NG | Rainbow Energy Marketing Corporation | Order granting blanket authority to import/export natural gas from/to Canada/Mexico.
3388 | 01/30/14 | 14-10-NG | White Eagle Trading, LLC | Order granting blanket authority to export natural gas to Mexico.

[FR Doc. 2014-26250 Filed 11-4-14; 8:45 am]

BILLING CODE 6450-01-P